NATIONAL AERONAUTICS AND SPACE ADMINISTRATION

[Notice 05-145]

Notice of Prospective Patent License

AGENCY: National Aeronautics and Space Administration.

ACTION: Notice of prospective patent license.

SUMMARY: NASA hereby gives notice that United Aerospace, Inc., of New York, New York, has applied for an exclusive license to practice the invention disclosed in U.S. Patent No. 6,186,693 entitled PASSIVE CAPTURE JOINT WITH THREE DEGREES OF FREEDOM and assigned to the United States of America as represented by the Administrator of the National Aeronautics and Space Administration. Written objections to the prospective grant of a license should be sent to Mr. Jerry L. Seemann, Chief Patent Counsel/LS01, Marshall Space Flight Center, Huntsville, AL 35812. NASA has not yet made a determination to grant the requested license and may deny the requested license even if no objections are submitted within the comment period.

DATES: Responses to this notice must be received by October 13, 2005.

FOR FURTHER INFORMATION CONTACT: Sammy A. Nabors, Technology Transfer Department/ED03, Marshall Space Flight Center, Huntsville, AL 35812, (256) 544-5226.

Dated: September 16, 2005.
Keith T. Sefton,
Deputy General Counsel (Admin & Mgmt).

[FR Doc. 05-19376 Filed 9-27-05; 8:45 am]

BILLING CODE 7510-13-P